DEPARTMENT OF ENERGY

Federal Energy Regulatory Commission

[Project No. 13569-000]

Southern Nevada Water Authority; Notice of Application Accepted for Filing, Ready for Environmental Analysis, and Soliciting Motions To Intervene and Protests, Comments, Final Terms and Conditions, Recommendations, and Prescriptions

April 5, 2010.

Take notice that the following hydroelectric application has been filed with the Commission and is available for public inspection.

a. Type of Filing: Original Minor License.

b. Project No.: 13569-000.

c. Dated Filed: March 24, 2010.

d. Submitted By: Southern Nevada Water Authority (SNWA)

e. Name of Project: Arrow Canyon Conduit Energy Recovery Hydroturbine.

f. Project description: proposed project would capture power by bypassing a pressure-reducing valve in the SNWA's existing Coyote Spring 24-inch- diameter water pipeline. The project would consist of a turbine generator, installed within a small building, inlet and outlet pipelines, and an access road. By routing water through the hydroturbine, the applicant would generate about 3.5 million kilowatt-hours (kWh) per year of renewable energy. To convey the power, Overton Power District No. 5 would extend an existing 12.47-kilovolt (kV) distribution line about 1,400 feet to the site.

g. Location: The proposed project would be located next to the existing Coyote Spring Well and Moapa Transmission System project in northeast Clark County, Nevada. The project would be located about 12 miles northwest of Glendale Nevada and occupy 0.68 acre of federal land.

h. Filed Pursuant to: 18 CFR 4.61 of the Commission's regulations.

i. Potential Applicant Contact: Scott P. Krantz, 100 City Parkway, room 1211, Las Vegas, NV 89106; (702) 691-5240.

j. FERC Contact: Jim Fargo at (202) 502-6095; or e-mail at james.fargo@ferc.gov.

k. A copy of the license application is available for review at the Commission in the Public Reference Room or may be viewed on the Commission's Web site (http://www.ferc.gov), using the “eLibrary” link. Enter the docket number, excluding the last three digits in the docket number field to access the document (P-13569). For assistance, contact FERC Online Support at FERCONlineSupport@ferc.gov or toll free at 1-866-208-3676, of for TTY, (202) 502-8659. A copy is also available for inspection and reproduction at the address in paragraph h. Register online at http://www.ferc.gov/docs-filing/esubscription.asp to be notified via e-mail of new filing and issuances related to this or other pending projects. For assistance, contact FERC Online Support.

l. This application has been accepted for filing and is now ready for environmental analysis.

m. The license applicant must file no later than 60 days following the date of issuance of this notice: (1) A copy of the water quality certification; (2) a copy of the request for certification, including proof of the date on which the certifying agency received the request; or (3) evidence of waiver of water quality certification.

n. Cooperating agencies: Federal, State, local, and tribal agencies with jurisdiction and/or special expertise with respect to environmental issues that wish to cooperate in the preparation of the environmental document should file such within 45 days from issuance of this notice.

Cooperating agencies should note the Commission's policy that agencies that cooperate in the preparation of the environmental document cannot also intervene. See 94 FERC ¶ 61,076 (2001). All documents may be filed electronically via the Internet. See 18 CFR 385.2001(a)(1)(iii) and the instructions on the Commission's Web site (http://www.ferc.gov/docs-filing/ferconline.asp) under the “e-Filing” link. For a simpler method of submitting text only comments click on “Quick Comment”. For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

o. We notice that we intend to waive scoping and shorten the filing and comment date on final terms and conditions, recommendations, and prescriptions. Based on a review of the application, resource agency consultation letters, and comments filed to date, Commission staff intends to prepare a single environmental assessment (EA). Commission staff determined that the issues that need to be addressed in its EA have been adequately identified during the pre-filing period for the application, which included a public meeting and site visit, and no new issues are likely to be identified through additional scoping.

p. Deadline for filing motions to intervene and protests, comments, and final terms and conditions, recommendations, and prescriptions: 45 days from the issuance of this notice. All reply comments must be filed with the Commission within 60 days from the date of this notice.

q. Procedural Schedule: The application will be processed according to the following Hydro Licensing Schedule. Revisions to the schedule will be made as appropriate.

Milestone | Target date
Recommendations, preliminary terms & conditions, and fishway prescriptions due | May 24, 2010.
Commission issues EA | July 30, 2010.

Kimberly D. Bose,
Secretary.

[FR Doc. 2010-8213 Filed 4-9-10; 8:45 am]

BILLING CODE 6717-01-P